DEPARTMENT OF COMMERCE

International Trade Administration

[A-570-912]

Certain New Pneumatic Off-the-Road Tires From the People's Republic of China: Partial Rescission of Antidumping Duty Administrative Review; 2013-2014

AGENCY: Enforcement and Compliance, International Trade Administration, Department of Commerce.

SUMMARY: On October 30, 2014, the Department of Commerce (“Department”) initiated an administrative review of the antidumping duty order on new pneumatic off-the-road tires (“OTR tires”) from the People's Republic of China (“PRC”) for 12 companies.¹ Based on timely withdrawal of requests for review, we are now rescinding this administrative review with respect to Double Coin Holdings Ltd., Guizhou Tyre Co., Ltd., and Guizhou Tyre Import and Export Co., Ltd.

¹ See Initiation of Antidumping and Countervailing Duty Administrative Reviews, 79 FR 64565 (October 30, 2014) at 64567.

DATES: Effective Date: February 24, 2015.

FOR FURTHER INFORMATION CONTACT: Andrew Medley, AD/CVD Operations, Office III, Enforcement and Compliance, International Trade Administration, U.S. Department of Commerce, 14th Street and Constitution Avenue NW., Washington, DC 20230; telephone (202) 482-4987.

Background

In September 2014, the Department received multiple timely requests to conduct an administrative review of the antidumping duty order on OTR tires from the PRC. Based upon these requests, on October 30, 2014, the Department published a notice of initiation of an administrative review covering the period of September 1, 2013, to August 31, 2014, with respect to 12 companies.² On November 20, 2014, Double Coin Holdings Ltd. (“Double Coin”) and China Manufacturers Alliance withdrew their request for review of Double Coin.³ On December 17, 2014, Guizhou Tyre Co., Ltd. and Guizhou Tyre Import and Export Co., Ltd. (collectively, “GTC”) withdrew their request for review.⁴

² Id.

³ See Letter from Double Coin titled “Double Coin's Withdrawal of Request for Antidumping Administrative Review: Certain New Pneumatic Off-the-Road Tires from China,” dated November 20, 2014.

⁴ See Letter from GTC titled “GTC Withdrawal of Request for Administrative Review: Sixth Administrative Review of Antidumping Duty Order on Certain New Pneumatic Off-the-Road Tires From The People's Republic Of China (Case No: A-570-912) (POR: September 1, 2013-August 31, 2014),” dated December 17, 2014.

Partial Rescission

Pursuant to 19 CFR 351.213(d)(1), the Secretary will rescind an administrative review, in whole or in part, if a party who requested the review withdraws the request within 90-days of the date of publication of notice of initiation of the requested review. Double Coin and GTC timely withdrew their requests for an administrative review on themselves; no other party requested a review of these companies.⁵ Accordingly, we are rescinding this review, in part, with respect to these companies, pursuant to 19 CFR 351.213(d)(1).

⁵ The Department will no longer consider the NME entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) at 65970.

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as the only reminder to importers for whom this review is being rescinded, as of the publication date of this notice, of their responsibility under 19 CFR 351.402(f)(2) to file a certificate regarding the reimbursement of antidumping and/or countervailing duties prior to liquidation of the relevant entries during this review period. Failure to comply with this requirement could result in the Secretary's presumption that reimbursement of the antidumping and/or countervailing duties occurred and the subsequent assessment of double and/or increased antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the Tariff Act of 1930, as amended, and 19 CFR 351.213(d)(4).

Dated: February 18, 2015.
Christian Marsh,
Deputy Assistant Secretary for Antidumping and Countervailing Duty Operations.

[FR Doc. 2015-03765 Filed 2-23-15; 8:45 am]

BILLING CODE 3510-DS-P